DEPARTMENT OF AGRICULTURE

Forest Service

Notice of New Fee Site; Federal Lands Recreation Enhancement Act (Title VIII, Pub. L. 108-447)

AGENCY: Kaibab National Forest, USDA Forest Service, Arizona.

ACTION: Notice of new fee site.

SUMMARY: The Kaibab National Forest proposes to begin charging a new fee for the daily rental of Hull Cabin, located one mile south of the Grand Canyon on the Tusayan Ranger District. The new fee will consist of a summer rate of $110.00 per day without water/$140.00 per day with water, and a winter rate of $75.00 per day without water. Hull Cabin is listed on the National Register of Historic Places and is the oldest surviving historic cabin near the Grand Canyon's south rim. Initially the cabin will be available for overnight use with a maximum capacity of six people. Management of the cabin may expand to include use as a group site and/or development of equestrian facilities. Other cabin rentals within the Arizona National Forests have shown that the public appreciates and enjoys the availability of historic rental facilities. Funds from the rental will be used for the continued operation and maintenance of Hull Cabin and other properties in the Arizona Cabin Rental Program.

DATES: Hull Cabin will become available for rent in spring of 2010.

ADDRESSES: Forest Supervisor, Kaibab National Forest, 800 6di St., Williams, Arizona 86046-2899.

FOR FURTHER INFORMATION CONTACT: Michael Lyndon, Archaeologist, Kaibab National Forest, 928-635-8272.

SUPPLEMENTARY INFORMATION: The Federal Recreation Lands Enhancement Act (Title VIII, Pub. L. 108-447) directed the Secretary of Agriculture to publish a six month advance notice in the Federal Register whenever new recreation fee areas are established. The Kaibab National Forest currently has one other cabin rental available (Spring Valley Cabin) that rents for $100 to $150.00 per day with a maximum capacity of 14 people. People wanting to rent Hull Cabin will need to do so through the National Recreation Reservation Service, at http://www.recreation.gov or by calling 1-877-444-6777. The National Recreation Reservation Service charges a $9 fee per reservation.

Dated: May 19, 2009.
Michael R. Williams,
Forest Supervisor, Kaibab National Forest.

[FR Doc. E9-13987 Filed 6-15-09; 8:45 am]

BILLING CODE 3410-11-M